LEGAL SERVICES CORPORATION

Sunshine Act Meeting of the Board of Directors—Telephonic

Time and Date: The Legal Services Corporation's Board of Directors will meet, on December 15, 2009 via conference call. The meeting will begin at 2:30 p.m. Eastern Time, and continue until conclusion of the Board's agenda.

Location: Legal Services Corporation Headquarters, 3rd Floor Conference Center, 3333 K Street, NW., Washington, DC.

Public Observation by Telephone: Members of the public that wish to listen live to those portions of the meeting open to the public may do so by following the telephone call-in directions provided below. Please keep your telephone muted while listening in order to eliminate background noises. Comments from the public may be solicited from time-to-time by the Committee's Chairperson.

Call-In Directions:

• Call toll-free number (1.866.451.4981);

• When prompted, enter the following numeric pass code: (3899506694); followed by # sign

• When connected to the call, please “mute” your telephone immediately. You may do so by dialing “*6.”

Status of Meeting: Open, except that a portion of the meeting may be closed to the public pursuant to a vote of the Board of Directors so the Board may consider and perhaps act on a recommendation as to selection of an Interim President for LSC. A verbatim written transcript will be made of the closed session of the Committee meeting. However, the transcript of any portions of the closed session falling within the relevant provisions of the Government in the Sunshine Act, 5 U.S.C. 552b(c)(6), and the corresponding provisions of the Legal Services Corporation's implementing regulation, 45 CFR 1622.5(e), will not be available for public inspection. A copy of the General Counsel's Certification that in his opinion the closing is authorized by law will be available upon request.

Matters To Be Considered:

Agenda

Open Session

1. Approval of agenda

Closed Session

3. Consider and act on recommendation as to selection of an Interim President for LSC

Open Session

2. Consider and act on other business

3. Public Comment

4. Consider and act on motion to adjourn meeting

Contact Person for Information: Katherine Ward, Executive Assistant to the Vice President & General Counsel, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward, at (202) 295-1500 or FR_NOTICE_QUESTIONS@lsc.gov.

Dated: December 3, 2009.
Mattie Cohan,
Senior Assistant General Counsel.

[FR Doc. E9-29263 Filed 12-4-09; 11:15 am]

BILLING CODE 7050-01-P